DEPARTMENT OF COMMERCE

International Trade Administration

[A-583-864]

Steel Propane Cylinders From Taiwan: Termination of Less-Than-Fair-Value Investigation

AGENCY: Enforcement and Compliance, International Trade Administration, Department of Commerce.

SUMMARY: Based on Worthington Industries and Manchester Tank & Equipment Co.'s (the petitioners) withdrawal of the antidumping duty (AD) petition on steel propane cylinders from Taiwan, we are terminating the less-than-fair-value (LTFV) investigation.

DATES: Applicable June 26, 2018.

FOR FURTHER INFORMATION CONTACT: Laurel LaCivita, AD/CVD Operations, Office III, Enforcement and Compliance, International Trade Administration, U.S. Department of Commerce, 1401 Constitution Avenue NW, Washington, DC 20230; telephone (202) 482-4243.

SUPPLEMENTARY INFORMATION:

Background

On May 22, 2018, Commerce received AD petitions concerning imports of steel propane cylinders from China, Taiwan and Thailand, filed on behalf of the petitioners.¹ On June 11, 2018, Commerce initiated the LTFV investigations of steel propane cylinders from China, Taiwan and Thailand, which were published in the Federal Register on June 18, 2018.² On June 14, 2018, the petitioners submitted a letter withdrawing the AD petition with respect to Taiwan.³ Section 351.207(b)(1) of Commerce's regulations stipulates that the Secretary may terminate an investigation, provided it has concluded that termination of the investigation is in the public interest.⁴ Because the petitioners have withdrawn their May 22, 2017, AD petition with respect to Taiwan, and have requested that Commerce terminate this investigation, we determine that termination of this investigation is in the public interest, pursuant to 19 CFR 351.207(b)(1).⁵ Accordingly, pursuant to section 734(a)(1)(A) of the Tariff Act of 1930, as amended (the Act), and 19 CFR 351.207(b)(1), we are terminating the LTFV investigation with respect to Taiwan.

¹ See the petitioners' letter, “Steel Propane Cylinders from the People's Republic of China, Taiwan, and Thailand: Petition for the Imposition of Antidumping and Countervailing Duties,” dated May 22, 2018 (the Petition). For the purposes of the instant notice, all references to `the Petition' refer specifically to the AD Petition with respect to Taiwan.

² See Steel Propane Cylinders from the People's Republic of China, Taiwan, and Thailand: Initiation of Less-Than-Fair-Value Investigations, 83 FR 28196 (June 18, 2018).

³ See the petitioners' letter, “Steel Propane Cylinders from the People's Republic of China, Taiwan, and Thailand: Withdrawal of Taiwan Antidumping Duty Petition,” dated June 14, 2018.

⁴ See 19 CFR 351.207(b)(1).

⁵ See Withdrawal Letter at 1-2.

Termination of Investigation

In accordance with section 734(a)(1)(A) of the Act and 19 CFR 351.207(b)(1), upon the petitioners' withdrawal of the Taiwan petition, we are terminating the LTFV investigation of steel propane cylinders from Taiwan.

Dated: June 20, 2018.
Gary Taverman,
Deputy Assistant Secretary, for Antidumping and Countervailing Duty Operations, performing the non-exclusive functions and duties of the Assistant Secretary for Enforcement and Compliance.

[FR Doc. 2018-13675 Filed 6-25-18; 8:45 am]

BILLING CODE 3510-DS-P